DEPARTMENT OF TRANSPORTATION

National Highway Traffic Safety Administration

[Docket No. NHTSA-03-15687; Notice 1]

Ford Motor Company; Receipt of Application for Temporary Exemption From Federal Motor Vehicle Safety Standard No. 103

We are asking for comments on the application by Ford Motor Company (“Ford”) of Dearborn, Michigan, for a temporary exemption from Motor Vehicle Safety Standard (FMVSS) No. 103, Defrosting and Defogging Systems. Ford asserted that compliance would prevent it from selling a motor vehicle whose overall level of safety is at least equal to that of a non-exempted vehicle.

We are publishing this notice of receipt of the application in accordance with our regulations on the subject. This action does not mean that we have made a judgment yet about the merits of the application.

The Motor Vehicle for Which a Temporary Exemption Is Sought

Ford is the manufacturer of the Lincoln Town Car. This motor vehicle is planned to be made available in a “Ballistic Protection Series (BPS).” It will be equipped with a windshield that is 40.68 mm thick, as contrasted with the standard Town Car's windshield of 4.9 mm thickness. The company related that “this thickness and the associated heat transfer properties are engineered to provide protection from impacts by certain rifle rounds * * * Ford does not envision producing more than 300 Town Car BPS Series in any calendar year.

How the Town Car BPS Fails To Comply With FMVSS No. 103

Paragraph S4.2 of FMVSS No. 103 establishes defrosting requirements for passenger car windshields. Ford related that “At this time clearance of the windshield in the time required under FMVSS 103 S4.2 can only be met with the usage of the washer fluid.”

Arguments Presented by Ford Demonstrating That the Town Car BPS Provides an Overall Level of Safety at Least Equal to a Non-Exempted Motor Vehicle

To maximize the defroster performance, the special windshield of the BPS is equipped with an embedded electrical grid. Ford's laboratory tests show that the windshield can, in fact, be cleared within the time required by S4.2 “by using both the defroster (including the hot air system and the embedded electrical grid in the windshield) and the windshield washer system.” The information provided with the vehicle will advise the vehicle operator to use the combined approach in defrosting the windshield. However, Ford anticipates that these special purpose vehicles are more likely to be garaged than parked in the open, and that the need to operate the defroster system will be minimal.

Arguments Presented by Ford as to Why a Temporary Exemption Would Be in the Public Interest and Consistent With Objectives of Motor Vehicle Safety

The windshield of the Lincoln Town Car BPS differs from those of armored vehicles produced by other manufacturers in that it will provide “a bullet resistant environment against rifle level threats,” as contrasted with “handgun level” threats. According to Ford, “Customers, including certain agencies of the U.S. Government, have expressed a need for vehicles with this level of protection for vehicle occupants.” Ford argued that its product will enhance the safety “for those individuals that are either government officials or certain other high profile individuals that are at a higher level of risk for terrorist attacks or assassination attempts.” Orders have already been placed by the General Services Administration (GSA) on behalf of two government entities. To emphasize the minimal nature of the noncompliance, Ford enclosed a copy of its test report indicating passage of S4.2 using washer fluid, which has been placed in the docket.

How You May Comment on Ford's Application

If you would like to comment on the application, please do so in writing, in duplicate, referring to the docket and notice number, and mail to: Docket Management, National Highway Traffic Safety Administration, room PL-401, 400 Seventh Street, SW, Washington, DC 20590.

We shall consider all comments received before the close of business on the date indicated below. Comments are available for examination in the docket in room PL-401 both before and after that date, between the hours of 10 a.m. and 5 p.m. To the extent possible, we also consider comments filed after the closing date. We will publish our decision on the application, pursuant to the authority indicated below.

Comment closing date: August 21, 2003.

Authority: 49 U.S.C. 30113; delegations of authority at 49 CFR 1.50 and 501.4.

Issued on July 16, 2003.
Stephen R. Kratzke,
Associate Administrator for Rulemaking.

[FR Doc. 03-18512 Filed 7-21-03; 8:45 am]

BILLING CODE 4910-59-P